DEPARTMENT OF HEALTH AND HUMAN SERVICES

Centers for Disease Control and Prevention

[30Day-06-05AB]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-4766 or send an e-mail to omb@cdc.gov. Send written comments to CDC Desk Officer, Office of Management and Budget, Washington, DC or by fax to (202) 395-6974. Written comments should be received within 30 days of this notice.

Proposed Project

Public Health Injury Surveillance and Prevention Program—Traumatic Brain Injuries (0920-05AB)—New—The National Center for Injury Prevention and Control (NCIPC), Centers for Disease Control and Prevention (CDC).

Background and Brief Description

Injury is the leading cause of death and disability among children and young adults. In 2000, more than 148,000 people died from injuries. Among them: 43,354 died from motor-vehicle crashes; 29,350 died from suicide; 16,765 died from homicide; 13,322 died from unintentional falls; 12,757 from unintentional poisonings; 3,482 died from unintentional drowning; 3,377 died from fires. These external causes often result in Traumatic Brain Injury (TBI). Each year, an estimated 1.5 million Americans sustain a TBI. As a consequence of these TBI injuries: 230,000 people are hospitalized and survive; 50,000 people die; 80,000 to 90,000 people experience the onset of long-term disability. An estimated 5.3 million Americans live with a permanent TBI-related disability. However, this estimate does not include people with “mild” TBI who are seen in emergency departments or outpatient encounters, nor those who do not receive medical care. The annual economic burden of TBI in the United States has been estimated at $56.3 billion in 1995 however, human costs of the long-term impairments and disabilities associated with TBI are incalculable. Because many TBI related disabilities are not conspicuous deficits, they are referred to as the invisible or silent epidemic. These disabilities, arising from cognitive, emotional, sensory, and motor impairments, often permanently alter a person's ability to maximize daily life experiences and have profound effects on social and family relationships. To implement more effective programs to prevent these injuries, we need reliable data on their causes and risk factors. State surveillance data can be used to: Identify trends in TBI incidence; enable the development of cause-specific prevention strategies focused on populations at greatest risk and monitor the effectiveness of such programs.

This project will develop and sustain injury surveillance programs including those with a focus on TBI and emergency department surveillance for mild TBI. The goal of this program is to produce data of demonstrated quality that will (a) be useful to State injury prevention and control programs, (b) enable states to produce injury indicators, (c) enable estimates of TBI incidence and public health consequences and (d) facilitate the use of TBI surveillance data to link individuals with information about TBI services.

Program recipients will collect information from pre-existing state data sets to calculate injury indicators in their state. In addition a small group of states will review and abstract medical records to obtain data for variables that address severity of injury, circumstances and etiology of injury, and early outcome of injury, in a large representative sample of reported cases of TBI-related hospitalization and mild TBI-related emergency department visits. The abstracted data will be stripped of all identifying information before submitting to CDC. States will use standardized data elements. The number of state health departments to be funded for data abstraction may be as high as 12. The only cost to the respondents is the time involved to complete the data abstraction. The estimated total burden hours are 12000.

Estimated annualized burden table

Respondents | Number of respondents | Number of responses/ respondent | Average burden/response (in hours)
State Health Departments | 12 | 1000 | 60/60

Dated: February 9, 2006.
Betsey Dunaway,
Acting Reports Clearance Officer, Centers for Disease Control and Prevention.

[FR Doc. E6-2209 Filed 2-15-06; 8:45 am]

BILLING CODE 4163-18-P